DEPARTMENT OF AGRICULTURE

Food and Nutrition Service

7 CFR Parts 215, 227, 246, 247, 248, 249, 272, and 277

RIN 0584-AE42

Food and Nutrition Service Regulatory Implementation of Office of Management and Budget's Uniform Administrative Requirements, Cost Principles, and Audit Requirements for Federal Awards; Correction

AGENCY: Food and Nutrition Service (FNS), USDA.

ACTION: Correcting amendment.

SUMMARY: This document contains technical corrections to the Code of Federal Regulations regarding the Final rule published in the Federal Register on September 28, 2016, “Food and Nutrition Service Regulatory Implementation of Office of Management and Budget's Uniform Administrative Requirements, Cost Principles, and Audit Requirements for Federal Awards.”

DATES: This document is effective April 3, 2018.

FOR FURTHER INFORMATION CONTACT: Lael Lubing, Food and Nutrition Service, Financial Management, Grants Division, 3101 Park Center Drive, Room 732, Alexandria, VA, (703) 305-2161 or lael.lubing@fns.usda.gov.

SUPPLEMENTARY INFORMATION: The Food and Nutrition Service published a final rule on September 28, 2016, (81 FR 66487), which amends FNS regulations to implement the Department of Agriculture final guidance of USDA-specific requirements at 2 CFR part 400 on December 19, 2014 (79 FR 75871). Prior to that, on December 26, 2013, the Office of Management and Budget (OMB) published “Uniform Administrative Requirements, Cost Principles, and Audit Requirements for Federal Awards” in 2 CFR part 200 (78 FR 78589). OMB's final guidance at 2 CFR part 200 followed a Notice of Proposed Guidance issued February 1, 2013 (78 FR 7282), and an Advanced Notice of Proposed Guidance issued February 28, 2012 (77 FR 11778).

List of Subjects

7 CFR Part 215 and 227

Grant programs-education, Grant programs-health.

7 CFR Parts 246 and 247

Grant programs-health, Grant programs-social programs.

7 CFR Parts 248, 249, 272, and 277

Grant programs-social programs.

Accordingly, 7 CFR parts 215, 227, 246, 247, 248, 249, 272, and 277 are amended as follows:

PART 215—SPECIAL MILK PROGRAM FOR CHILDREN

1. The authority citation for 7 CFR part 215 continues to read as follows:

Authority: 42 U.S.C. 1772 and 1779.

§ 215.11 [Amended]

2. In § 215.11(b)(2), remove the words “cla, aiming” and add in its place the word “claiming”.

PART 227—NUTRITION EDUCATION AND TRAINING PROGRAM

3. The authority citation for 7 CFR part 227 continues to read as follows:

Authority: Sec. 15, Pub. L. 95-166, 91 Stat. 1340 (42 U.S.C. 1788), unless otherwise noted.

§ 227.35 [Amended]

4. In § 227.35(h) remove the word “communty” and add in its place the word “community”.

PART 246—SPECIAL SUPPLEMENTAL NUTRITION PROGRAM FOR WOMEN, INFANTS AND CHILDREN

5. The authority citation for 7 CFR part 246 continues to read as follows:

Authority: 42 U.S.C. 1786.

6. In § 246.13, revise the section heading to read as follows:

§ 246.13 Financial management system.

* * * * *

§ 246.17 [Amended]

7. In § 246.17(c)(5), remove the word “resonsible” and add in its place the word “responsible”.

8. In § 246.20, revise paragraph (b)(1) to read as follows:

§ 246.20 Audits.

* * * * *

(b) * * *

(1) State agencies must obtain annual audits in accordance with 2 CFR part 200, subpart F, and appendix XI, Compliance Supplement, and USDA implanting regulations 2 CFR parts 400 and 415. In addition, States must require local agencies under their jurisdiction to obtain audits in accordance with 2 CFR part 200, subpart F, and appendix XI, Compliance Supplement, and USDA implementing regulations 2 CFR parts 400 and 415.

* * * * *

PART 247—COMMODITY SUPPLEMENTAL FOOD PROGRAM

9. The authority citation for 7 CFR part 247 continues to read as follows:

Authority: Sec. 5, Pub. L. 93-86, 87 Stat. 249, as added by Sec. 1304(b)(2), Pub. L. 95-113, 91 Stat. 980 (7 U.S.C. 612c note); sec. 1335, Pub. L. 97-98, 95 Stat. 1293 (7 U.S.C. 612c note); sec. 209, Pub. L. 98-8, 97 Stat. 35 (7 U.S.C. 612c note); sec. 2(8), Pub. L. 98-92, 97 Stat. 611 (7 U.S.C. 612c note); sec. 1562, Pub. L. 99-198, 99 Stat. 1590 (7 U.S.C. 612c note); sec. 101(k), Pub. L. 100-202; sec. 1771(a), Pub. L. 101-624, 101 Stat. 3806 (7 U.S.C. 612c note); sec 402(a), Pub. L. 104-127, 110 Stat. 1028 (7 U.S.C. 612c note); sec. 4201, Pub. L. 107-171, 116 Stat. 134 (7 U.S.C. 7901 note); sec. 4221, Pub. L. 110-246, 122 Stat. 1886 (7 U.S.C. 612c note); sec. 4221, Pub. L. 113-79, 7 U.S.C. 612c note).

§ 247.25 [Amended]

10. In § 247.25:

a. In paragraph (d):

i. Remove the words “parts 3016 and 3019 of this title” and add in their place the words “2 CFR part 200, subpart E, and USDA implementing regulations 2 CFR parts 400 and 415, which set out the principles for determining whether specific costs are allowable”.

ii. Remove the words “part 3016 of this title” and add in their place the words “2 CFR part 200, subpart E, and USDA implementing regulations 2 CFR parts 400 and 415”.

iii. Remove the words “part 3019 of this title” and add in their place the words “2 CFR part 200, subpart E, and USDA implementing regulations 2 CFR parts 400 and 415”.

b. In paragraph (e), remove the words “part 3016 of this title” and add in their place the words “2 CFR part 200, subpart E, and USDA implementing regulations 2 CFR parts 400 and 415”.

11. In § 247.27(a), revise the first sentence to read as follows:

§ 247.27 Financial management.

(a) * * * State and local public agencies, as well as nonprofit organizations, must maintain a financial management system that complies with the Federal regulations contained in 2 CFR part 200, subparts D and E, and USDA implementing regulations 2 CFR parts 400 and 415. * * *

* * * * *

§ 247.32 [Amended]

12. In § 247.32:

a. In paragraph (a) introductory text, remove the words “part 3016 of this title” and add in their place the words “2 CFR part 200, subpart D, and USDA implementing regulations 2 CFR parts 400 and 415”.

b. In paragraph (b) introductory text, remove the words “part 3016 of this title” and add in their place the words “2 CFR part 200, subpart D, and USDA implementing regulations 2 CFR parts 400 and 415”.

PART 248—WIC FARMERS' MARKET NUTRITION PROGRAM (FMNP)

13. The authority citation for 7 CFR part 248 continues to read as follows:

Authority: 42 U.S.C. 1786.

§ 248.12 [Amended]

14. In § 248.12(a)(3):

a. Remove the words “2 CFR part 200, subpart E and USDA implementing regulations 2 CFR part 400 and part 415” and add in their place the words “2 CFR part 200, subpart E, and USDA implementing regulations 2 CFR parts 400 and 415.”

b. Remove the words “part 3016 or this part,” and add in their place the words “2 CFR part 200, subparts D and E, and USDA implementing regulations 2 CFR parts 400 and 415,”.

PART 249—SENIOR FARMERS' MARKET NUTRITION PROGRAM (SFMNP)

15. The authority citation for 7 CFR part 249 continues to read as follows:

Authority: 7 U.S.C. 3007.

§ 249.11 [Amended]

16. In § 249.11(d), remove the words “part 3016 of this title” and add in their place the words “2 CFR part 200, subpart E, and USDA implementing regulations 2 CFR parts 400 and 415”.

§ 249.12 [Amended]

17. In § 249.12:

a. In paragraph (a)(1) introductory text, remove the words “2 CFR part 200, subpart E and USDA implementing regulations 2 CFR part 400 and part 415 and this part” and add in their place the words “2 CFR part 200, subpart E, and USDA implementing regulations 2 CFR parts 400 and 415”.

b. In paragraph (a)(2), remove the words “part 3016.22 of this title” and “2 CFR part 200, subpart E and USDA implementing regulations 2 CFR part 400 and part 415” and add in their place the words “2 CFR part 200, subpart E, and USDA implementing regulations 2 CFR parts 400 and 415”.

§ 249.21 [Amended]

18. In § 249.21:

a. In paragraph (a), remove the words “2 CFR part 200, subpart D and USDA implementing regulations 2 CFR part 400 and part 415for” and add in their place the words “2 CFR part 200, subpart D, and USDA implementing regulations 2 CFR parts 400 and 415 for”.

b. In paragraph (c)(2), remove the words “part 3016 of this title” and add in its place the words “2 CFR part 200, subpart D, and USDA implementing regulations 2 CFR parts 400 and 415”.

PART 272—REQUIREMENTS FOR PARTICIPATING STATE AGENCIES

19. The authority citation for 7 CFR part 272 continues to read as follows:

Authority: 7 U.S.C. 2011-2036.

§ 272.1 [Amended]

20. In § 272.1:

a. In paragraph (c)(1)(v), remove the word “provison” and add in its place the word “provision”.

b. In paragraph (g)(84)(i), remove the word “approporiate” and add in its place the word “appropriate”.

c. In paragraphs (g)(93)(i) and (g)(98)(iii), remove the word “occured” and add in its place the word “occurred”.

d. In paragraph (g)(116), remove the word “implemention” and add in its place the word “implementation”.

PART 277—PAYMENTS OF CERTAIN ADMINISTRATIVE COSTS OF STATE AGENCIES

21. The authority citation for 7 CFR part 277 continues to read as follows:

Authority: 7 U.S.C. 2011-2036.

§ 277.9 [Amended]

22. In § 277.9(c)(2), remove the words “this part and 2 CFR part 200, subpart E and USDA implementing regulations 2 CFR part 400 and part 415” and add in their place the words “2 CFR part 200, subpart E, and USDA implementing regulations 2 CFR parts 400 and 415”.

§ 277.13 [Amended]

23. In § 277.13(f), remove the word “Excecutive” and add in its place the word “Executive”.

§ 277.17 [Amended]

24. In § 277.17(d)(2)(viii), remove the word “by2 CFR part 200, subpart D and USDA implementing regulations 2 CFR part 400 and part 415” and add in their place the words “by 2 CFR part 200, subpart D, and USDA implementing regulations 2 CFR parts 400 and 415”.

Dated: March 12, 2018.
Brandon Lipps,
Administrator, Food and Nutrition Service.

[FR Doc. 2018-06519 Filed 4-2-18; 8:45 am]

BILLING CODE 3410-30-P